FEDERAL COMMUNICATIONS COMMISSION

47 CFR Parts 1, 2, 15, 97, and 101

[WT Docket No. 02-146; RM-10288; FCC 03-248]

Allocations and Service Rules for the 71-76 GHz, 81-86 GHz, and 92-95 GHz Bands; Loea Communications Corporation Petition for Rule Making

AGENCY: Federal Communications Commission.

ACTION: Final rule.

SUMMARY: In this document, the Commission adopts service rules to promote the private sector development and use of the “millimeter wave” spectrum in the 71-76 GHz, 81-86 GHz and 92-95 GHz bands pursuant to parts 15 and 101 of our rules. This action follows an initiative by the Commission's Office of Engineering and Technology to spawn possible commercial development of these bands under the Communications Act of 1934, as amended.

DATES: Effective February 23, 2004.

FOR FURTHER INFORMATION CONTACT: Jennifer Burton regarding legal matters, and/or Gerardo Mejia regarding engineering matters via phone at (202) 418-0680, via TTY (202) 418-7233, via e-mail at Jennifer.Burton@fcc.gov; Gerardo.Mejia@fcc.gov, respectively, or via regular mail at Federal Communications Commission, Wireless Telecommunications Bureau, 445 12th Street, SW., Washington, DC 20554.

SUPPLEMENTARY INFORMATION: This is a summary of the Federal Communications Commission's Report and Order, FCC 03-248, adopted on October 16, 2003, and released on November 4, 2003. The full text of this document is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365.

Report and Order: In this Report and Order, the Commission makes the following major decisions:

• It will reallocate the 71-76 GHz, 81-86 GHz and 92-95 GHz bands to update the current allocations, which were established at the World Administrative Radio Conference in 1992 (WARC-92, Malaga-Torremolinos) and the World Radiocommunication Conference in 1997 and 2000 (WRC-97, Geneva, and WRC-2000, Istanbul).

• It will divide the 71-76 GHz and 81-86 GHz bands into four unpaired 1.25 GHz segments each (eight total), without mandating specific channels within the segment. The segments may be aggregated without limit. In order to maximize the number of possible users in a given location, the Commission will divide the 71-76 GHz and 81-86 GHz bands into unpaired 1.25 GHz segments (without mandating specific channels within the segment) with no aggregation limit. It will permit pairing, but only in a standardized manner (e.g., 71-72.25 GHz may be paired only with 81-82.25 GHz, and so on).

• Non-Federal Government licensees will receive non-exclusive nationwide licenses authorizing operation on all 12.9 GHz of co-primary spectrum. Rights with regard to specific links will be established based upon the date and time of link registration. Initially, coordination of non-Federal Government links with Federal Government operations will be accomplished under the existing coordination process, and non-Federal Government links will be recorded in the Commission's Universal Licensing System database. On a permanent basis, such coordination will be accomplished within a new process for coordination of non-Federal Government links with Federal Government users. The Commission envisions that coordination will be accomplished via an automated mechanism administered by the National Telecommunications and Information Administration (NTIA), for which the framework will be jointly agreed by the FCC and NTIA. Within four months of the publication of this Report and Order in the Federal Register, Commission staff, in conjunction with the NTIA, will release a public notice setting out the implementation of a new process for coordination of non-Federal Government links with Federal Government users. NTIA has indicated that it believes that it can make the initial version of the mechanism available within 4 months of the public notice. In addition, at that time, Commission staff will announce via public notice the start-date for the new procedure that we adopt herein for mitigating interference among non-Federal Government links.

• The Commission will permit unlicensed non-Federal Government indoor use of the 92-95 GHz band, to be governed by rules based on existing regulations for the 57-64 GHz band.

• It declines to adopt eligibility restrictions for the 71-76 GHz, 81-86 GHz, and 92-95 GHz bands.

Final Regulatory Flexibility Certification (Report and Order)

As required by the Regulatory Flexibility Act of 1980, as amended (RFA), (see 5 U.S.C. 603. The RFA, see 5 U.S.C. 601-612, has been amended by the Small Business Regulatory Enforcement Fairness Act of 1996 (SBREFA), Public Law No. 104-121, Title II, 110 Stat. 847 (1996)) an Initial Regulatory Flexibility Analysis (IRFA) was incorporated in the Notice of Proposed Rule Making (NPRM), 67 FR 59036-01, September 19, 2002, in this proceeding in WT Docket No. 02-146. The Commission sought public comment on the proposals in the NPRM, including on the IRFA. This present Final Regulatory Flexibility Analysis (FRFA) conforms to the RFA.

a. Need for, and Purpose of This Action

In this Report and Order, the Commission adopts rules for the licensing and operation of the 71-76 GHz, 81-86 GHz and 92-95 GHz (70-80-90 GHz) spectrum bands. Currently, there are no rules in place for these bands. The rules we adopt implement non-exclusive, nationwide licensing with site-by-site registration for these bands. It believes that this approach will also stimulate investment in new technologies, provide a critical means of achieving greater spectrum efficiency and promote research and development.

b. Issues Raised in Response to the IRFA

No comments were filed in response to the IRFA.

c. Description and Estimate of the Small Entities To Which Rules Will Apply

The Commission will apply the definition of small entities developed for licensees in the 39 GHz band to licensees in the 70-80-90 GHz bands, as follows:

The SBA has developed a small business size standard for Cellular and Other Wireless telecommunication, which consists of all such firms having 1,500 or fewer employees. 13 CFR 121.201, NAICS code 517212 (changed from 513322 in October 2002). According to Census Bureau data for 1997, in this category there was a total of 977 firms that operated for the entire year. U.S. Census Bureau, 1997 Economic Census, Subject Series: Information, “Establishment and Firm Size (Including Legal Form of Organization),” Table 5. Of this total, 965 firms had employment of 999 or fewer employees, and an additional twelve firms had employment of 1,000 employees or more. Id. The census data do not provide a more precise estimate of the number of firms that have 1,500 or fewer employees; the largest category provided is “Firms with 1,000 employees or more.” Thus, under this size standard, the majority of firms can be considered small.

The applicable definition of small entity is the definition under the SBA rules applicable to manufacturers of “Radio and Television Broadcasting and Communications Equipment.” According to the SBA's regulation, an RF manufacturer must have 750 or fewer employees in order to qualify as a small business. See 13 CFR 121.201, NAICS Code 334220. Census Bureau data indicates that there are 858 companies in the United States that manufacture radio and television broadcasting and communications equipment, and that 778 of these firms have fewer than 750 employees and would be classified as small entities. See U.S. Department of Commerce, 1992 Census of Transportation, Communications and Utilities (issued May 1995), NAICS category 334220. Therefore, the Commission believes that no more than 778 of the companies that manufacture RF equipment qualify as small entities.

d. Description of the Projected Reporting, Recordkeeping, and Other Compliance Requirements

This Report and Order modifies the reporting, recordkeeping or other compliance requirements previously proposed in this proceeding. All applicants who are approved will each be granted a single, non-exclusive nationwide license. There is no limit to the number of non-exclusive nationwide licenses that may be granted for these bands, and these licenses will serve as a prerequisite for registering individual links. At the outset, the Commission will continue to coordinate each link under our existing coordination process, which is set forth in § 101.103 of our rules. Each link must be registered in the Commission's ULS and also requires IRAC coordination. On a going-forward basis, it will be working cooperatively with NTIA to facilitate an innovative, streamlined link registration process that will enable licensees to expedite service to the public. The licensing and registration process is the same for all interested parties.

e. Steps Taken To Minimize Significant Economic Impact on Small Entities, and Significant Alternatives Considered

The required single, non-exclusive nationwide license with site-based registration serves the public interest by simplifying the licensing process and enabling all who are interested to obtain a license to provide service where their targeted market is located. There is no limit to the number of non-exclusive nationwide licenses that may be granted for these bands, so all who qualify as licensees will receive a license. This licensing scheme will allow small businesses the flexibility to provide a variety of services in their chosen markets, because links may be registered anywhere in the United States.

f. Federal Rules That Overlap, Duplicate, or Conflict With These Proposed Rules

None.

g. Report to Congress

The Commission will send a copy of this Report and Order, including this FRFA, in a report to be sent to Congress pursuant to the Congressional Review Act. See 5 U.S.C. 801(a)(1)(A). In addition, the Commission will send a copy of this Report and Order, including the FRFA, to the Chief Counsel for Advocacy of the Small Business Administration.

Ordering Clauses

Accordingly, it is ordered that, pursuant to sections 1, 4(i), 301, 302, 303(f) and (r), 309(j) and 332 of the Communications Act of 1934, as amended, 47 U.S.C. 1, 154(i), 301, 302, 303(f) and (r), 309(j) and 332, this Report and Order is adopted.

It is further ordered that the Commission's Consumer Information and Governmental Affairs Bureau, Reference Information Center, shall send a copy of this Report and Order, including the Final Regulatory Flexibility Analysis, to the Chief Counsel for Advocacy of the Small Business Administration.

List of Subjects in 47 CFR Parts 1, 2, 15, 97, and 101

Communications common carriers, Communications equipment, Radio.

Federal Communications Commission.
Marlene H. Dortch,
Secretary.

Rule Changes

For the reasons discussed in the preamble, the Federal Communications Commission amends 47 CFR Parts 1, 2, 15, 97, and 101 as follows:

PART 1—PRACTICE AND PROCEDURE

1. The authority citation for part 1 continues to read as follows:

Authority: 47 U.S.C. 151, 154(i), 154(j), 155, 225, 303(r), 309 and 325(e).

2. Section 1.1307(b)(1) is amended by adding entries to the end of Table 1 as follows:

§ 1.1307 Actions that may have a significant environmental effect, for which Environmental Assessments (Eas) must be prepared.

* * * * *

(b)(1) * * *

Service (title 47 CFR rule part) | Evaluation required if:
* * * * * * *
70/80/90 GHz Bands (subpart Q of part 101) | Non-building-mounted antennas: height above ground level to lowest point of antenna < 10 m and power > 1640 W EIRP.
| Building-mounted antennas: power > 1640 W EIRP, licensees are required to attach a label to transceiver antennas that
| (1) provides adequate notice regarding potential radiofrequency safety hazards, e.g., information regarding the safe minimum separation distance required between users and transceiver antennas; and
| (2) references the applicable FCC-adopted limits for radiofrequency exposure specified in § 1.1310.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Section 2.106, the Table of Frequency Allocations, is amended as follows:

a. Revise pages 81 through 83.

b. In the list of United States (US) Footnotes, revise footnotes US211, US297, and US342; remove footnotes US270 and US377; and add footnotes US387, US388, and US389.

BILLING CODE 6712-01-P

BILLING CODE 6712-01-C

* * * * *

United States (US) Footnotes

* * * * *

US211 In the bands 1670-1690, 5000-5250 MHz and 10.7-11.7, 15.1365-15.35, 15.4-15.7, 22.5-22.55, 24-24.05, 31.0-31.3, 31.8-32.0, 40.5-42.5, 102-105, 116-126, 151-164, 176.5-182, 185-190, 231-235, 252-265 GHz, applicants for airborne or space station assignments are urged to take all practicable steps to protect radio astronomy observations in the adjacent bands from harmful interference; however, US74 applies.

* * * * *

US297 The bands 47.2-49.2 GHz and 81-82.5 GHz are also available for feeder links for the broadcasting-satellite service.

* * * * *

US342 In making assignments to stations of other services to which the following bands:

13360-13410 kHz | 22.81-22.86 GHz* | 150-151 GHz*
25550-25670 kHz | 23.07-23.12 GHz* | 174.42-175.02 GHz*
37.5-38.25 MHz | 31.2-31.3 GHz | 177-177.4 GHz*
322-328.6 MHz* | 36.43-36.5 GHz* | 178.2-178.6 GHz*
1330-1400 MHz* | 42.5-43.5 GHz | 181-181.46 GHz*
1610.6-1613.8 MHz* | 48.94-49.04 GHz* | 186.2-186.6 GHz*
1660-1670 MHz | 81-86 GHz | 250-251 GHz*
3260-3267 MHz* | 92-94 GHz | 257.5-258 GHz*
3332-3339 MHz* | 94.1-95 GHz | 261-265 GHz
3345.8-3352.5 MHz* | 97.88-98.08 GHz* | 262.24-262.76 GHz*
4825-4835 MHz* | 140.69-140.98 GHz* | 265-275 GHz
14.47-14.5 GHz* | 144.68-144.98 GHz* | 265.64-266.16 GHz*
22.01-22.21 GHz* | 145.45-145.75 GHz* | 267.34-267.86 GHz*
22.21-22.5 GHz | 146.82-147.12 GHz* | 271.74-272.26 GHz*

are allocated (* indicates radio astronomy use for spectral line observations) all practicable steps shall be taken to protect the radio astronomy service from harmful interference. Emissions from spaceborne or airborne stations can be particularly serious sources of interference to the radio astronomy service (see Nos. 4.5 and 4.6 and Article 29 of the ITU Radio Regulations).

* * * * *

US387 The band 75.5-76 GHz is also allocated to the amateur and amateur-satellite services on a secondary basis until January 1, 2006. After that date, the band 75.5-76 GHz shall no longer be available for use by the amateur service or the amateur-satellite service.

US388 In the bands 81-86 GHz, 92-94 GHz, and 94.1-95 GHz and within the coordination distances indicated below, assignments to allocated services shall be coordinated with the following radio astronomy observatories. New observatories shall not receive protection from fixed stations that are licensed to operate in the one hundred most populous urbanized areas as defined by the U.S. Census Bureau for the year 2000. The coordinates listed below are specified in terms of the North American Datum of 1983.

Note: Satisfactory completion of the coordination procedure utilizing the automated mechanism, see § 101.1523, will be deemed to establish sufficient separation from radio astronomy observatories, regardless of whether the distances set forth above are met.

Telescope and site | 150 kilometer (93 mile) radius centered on:: North latitude | 150 kilometer (93 mile) radius centered on:: West longitude
National Radio Astronomy Observatory (NRAO), Robert C. Byrd Telescope, Green Bank, WV | 38° 25′ 59″ | 79° 50′ 24″
NRAO, Very Large Array, Socorro, NM | 34° 04′ 44″ | 107° 37′ 06″
University of Arizona 12-m Telescope, Kitt Peak, AZ | 31° 57′ 10″ | 111° 36′ 50″
BIMA Telescope, Hat Creek, CA | 40° 49′ 04″ | 121° 28′ 24″
Caltech Telescope, Owens Valley, CA | 37° 13′ 54″ | 118° 17′ 36″
Five Colleges Observatory, Amherst, MA | 42° 23′ 33″ | 72° 20′ 40″
Haystack Observatory, Westford, MA | 42° 37′ 23″ | 71° 29′ 19″
James Clerk Maxwell Telescope, Mauna Kea, HI | 19° 49′ 33″ | 155° 28′ 20″
Combined Array for Research in Millimeter-wave Astronomy (CARMA), CA | (1) CARMA will be located at a new, high-altitude site in eastern California, expected to be operational in 2004.

NRAO, very long baseline array stations | 25 kilometer (15.5 mile) radius centered on:: North latitude | 25 kilometer (15.5 mile) radius centered on:: West longitude
Brewster, WA | 48° 07′ 52″ | 119° 41′ 00″
Fort Davis, TX | 30° 38′ 06″ | 103° 56′ 41″
Hancock, NH | 42° 56′ 01″ | 71° 59′ 12″
Kitt Peak, AZ | 31° 57′ 23″ | 111° 36′ 45″
Los Alamos, NM | 35° 46′ 31″ | 106° 14′ 44″
Mauna Kea, HI | 19° 48′ 05″ | 155° 27′ 19″
North Liberty, IA | 41° 46′ 17″ | 91° 34′ 27″
Owens Valley, CA | 37° 13′ 54″ | 118° 16′ 37″
Pie Town, NM | 34° 18′ 04″ | 108° 07′ 09″
Saint Croix, VI | 17° 45′ 24″ | 64° 35′ 01″

US389 In the bands 71-76 GHz and 81-86 GHz, stations in the fixed, mobile, and broadcasting services shall not cause harmful interference to, nor claim protection from, Federal Government stations in the fixed-satellite service at any of the following 28 military installations:

Military installation | State | Nearby city
Redstone Arsenal | AL | Huntsville.
Fort Huachuca | AZ | Sierra Vista.
Yuma Proving Ground | AZ | Yuma.
Beale AFB | CA | Marysville.
Camp Parks Reserve Forces Training Area | CA | Dublin.
China Lake Naval Air Weapons Station | CA | Ridgecrest.
Edwards AFB | CA | Rosamond.
Fort Irwin | CA | Barstow.
Marine Corps Air Ground Combat Center | CA | Twentynine Palms.
Buckley AFB | CO | Aurora (Denver).
Schriever AFB | CO | Colorado Springs.
Fort Gordon | GA | Augusta.
Naval Satellite Operations Center | GU | Finegayan (Territory of Guam).
Naval Computer and Telecommunications Area Master Station, Pacific | HI | Wahiawa (Oahu Is.).
Fort Detrick | MD | Frederick.
Nellis AFB | NV | Las Vegas.
Nevada Test Site | NV | Amargosa Valley.
Tonapah Test Range Airfield | NV | Tonapah.
Cannon AFB | NM | Clovis.
White Sands Missile Range | NM | White Sands.
Dyess AFB | TX | Abilene.
Fort Bliss | TX | El Paso.
Fort Sam Houston | TX | San Antonio.
Goodfellow AFB | TX | San Angelo.
Kelly AFB | TX | San Antonio.
Utah Test and Training Range | UT |
Fort Belvoir | VA | Alexandria.
Naval Satellite Operations Center | VA | Chesapeake.

* * * * *

5. Section 2.1091 is amended by revising paragraph (c) to read as follows:

§ 2.1091 Radiofrequency radiation exposure evaluation: mobile devices.

* * * * *

(c) Mobile devices that operate in the Cellular Radiotelephone Service, the Personal Communications Services, the Satellite Communications Services, the General Wireless Communications Service, the Wireless Communications Service, the Maritime Services and the Specialized Mobile Radio Service authorized under subpart H of part 22 of this chapter, parts 24, 25, 26 and 27 of this chapter, part 80 of this chapter (ship earth stations devices only) and part 90 of this chapter are subject to routine environmental evaluation for RF exposure prior to equipment authorization or use if they operate at frequencies of 1.5 GHz or below and their effective radiated power (ERP) is 1.5 watts or more, or if they operate at frequencies above 1.5 GHz and their ERP is 3 watts or more. Unlicensed personal communications service devices, unlicensed millimeter wave devices and unlicensed NII devices authorized under §§ 15.253, 15.255, and 15.257, and subparts D and E of part 15 of this chapter are also subject to routine environmental evaluation for RF exposure prior to equipment authorization or use if their ERP is 3 watts or more or if they meet the definition of a portable device as specified in § 2.1093(b) requiring evaluation under the provisions of that section. All other mobile and unlicensed transmitting devices are categorically excluded from routine environmental evaluation for RF exposure prior to equipment authorization or use, except as specified in §§ 1.1307(c) and 1.1307(d) of this chapter. Applications for equipment authorization of mobile and unlicensed transmitting devices subject to routine environmental evaluation must contain a statement confirming compliance with the limits specified in paragraph (d) of this section as part of their application. Technical information showing the basis for this statement must be submitted to the Commission upon request.

* * * * *

6. Section 2.1093 is amended by revising paragraph (c) to read as follows:

§ 2.1093 Radiofrequency radiation exposure evaluation: portable devices.

* * * * *

(c) Portable devices that operate in the Cellular Radiotelephone Service, the Personal Communications Service (PCS), the Satellite Communications Services, the General Wireless Communications Service, the Wireless Communications Service, the Maritime Services, the Specialized Mobile Radio Service, the 4.9 GHz Band Service, the Wireless Medical Telemetry Service (WMTS) and the Medical Implant Communications Service (MICS), authorized under subpart H of part 22 of this chapter, parts 24, 25, 26, 27, 80 and 90 of this chapter, subparts H and I of part 95 of this chapter, and unlicensed personal communication service, unlicensed NII devices and millimeter wave devices authorized under subparts D and E, §§ 15.253, 15.255 and 15.257 of this chapter are subject to routine environmental evaluation for RF exposure prior to equipment authorization or use. All other portable transmitting devices are categorically excluded from routine environmental evaluation for RF exposure prior to equipment authorization or use, except as specified in §§ 1.1307(c) and 1.1307(d) of this chapter. Applications for equipment authorization of portable transmitting devices subject to routine environmental evaluation must contain a statement confirming compliance with the limits specified in paragraph (d) of this section as part of their application. Technical information showing the basis for this statement must be submitted to the Commission upon request.

* * * * *

PART 15—RADIO FREQUENCY DEVICES

7. The authority citation continues to read as follows:

Authority: 47 U.S.C. 154, 302, 303, 304, 307, 336 and 544A.

8. Section 15.205 is amended by revising paragraph (d)(4) to read as follows:

§ 15.205 Restricted bands of operation.

* * * * *

(d) * * *

(4) Any equipment operated under the provisions of §§ 15.253, 15.255 or 15.257.

* * * * *

9. Section 15.215 is amended by revising paragraphs (a) and (c) to read as follows:

§ 15.215 Additional provisions to the general radiated emission limitations.

(a) The regulations in §§ 15.217 through 15.257 provide alternatives to the general radiated emission limits for intentional radiators operating in specified frequency bands. Unless otherwise stated, there are no restrictions as to the types of operation permitted under these sections.

* * * * *

(c) Intentional radiators operating under the alternative provisions to the general emission limits, as contained in §§ 15.217 through 15.257 and in subpart E of this part, must be designed to ensure that the 20 dB bandwidth of the emission is contained within the frequency band designated in the rule section under which the equipment is operated. The requirement to contain the 20 dB bandwidth of the emission within the specified frequency band includes the effects from frequency sweeping, frequency hopping and other modulation techniques that may be employed as well as the frequency stability of the transmitter over expected variations in temperature and supply voltage. If a frequency stability is not specified in the regulations, it is recommended that the fundamental emission be kept within at least the central 80% of the permitted band in order to minimize the possibility of out-of-band operation.

10. Section 15.257 is added to subpart C to read as follows:

§ 15.257 Operation within the band 92-95 GHz.

(a) Operation of devices under the provisions of this section is limited to indoor use;

(1) Devices operating under the provisions of this section, by the nature of their design, must be capable of operation only indoors. The necessity to operate with a fixed indoor infrastructure, e.g., a transmitter that must be connected to the AC power lines, may be considered sufficient to demonstrate this.

(2) The use of outdoor mounted antennas, e.g., antennas mounted on the outside of a building or on a telephone pole, or any other outdoors infrastructure is prohibited.

(3) The emissions from equipment operated under this section shall not be intentionally directed outside of the building in which the equipment is located, such as through a window or a doorway.

(4) Devices operating under the provisions of this section shall bear the following or similar statement in a conspicuous location on the device or in the instruction manual supplied with the device: “This equipment may only be operated indoors. Operation outdoors is in violation of 47 U.S.C. 301 and could subject the operator to serious legal penalties.”

(b) Operation under the provisions of this section is not permitted on aircraft or satellites.

(c) Within the 92-95 GHz bands, the emission levels shall not exceed the following:

(1) The average power density of any emission, measured during the transmit interval, shall not exceed 9 uW/sq. cm, as measured at 3 meters from the radiating structure, and the peak power density of any emission shall not exceed 18 uW/sq. cm, as measured 3 meters from the radiating structure.

(2) Peak power density shall be measured with an RF detector that has a detection bandwidth that encompasses the band being used and has a video bandwidth of at least 10 MHz, or uses an equivalent measurement method.

(3) The average emission limits shall be calculated based on the measured peak levels, over the actual time period during which transmission occurs.

(d) Limits on spurious emissions:

(1) The power density of any emissions outside the band being used shall consist solely of spurious emissions.

(2) Radiated emissions below 40 GHz shall not exceed the general limits in § 15.209.

(3) Between 40 GHz and 200 GHz, the level of these emissions shall not exceed 90 pW/cm ² at a distance of 3 meters.

(4) The levels of the spurious emissions shall not exceed the level of the fundamental emission.

(e) The total peak transmitter output power shall not exceed 500 mW.

(f) Fundamental emissions must be contained within the frequency bands specified in this section during all conditions of operation. Equipment is presumed to operate over the temperature range −20 to +50 degrees Celsius with an input voltage variation of 85% to 115% of rated input voltage, unless justification is presented to demonstrate otherwise.

(g) Regardless of the maximum EIRP and maximum power density levels permitted under this section, devices operating under the provisions of this section are subject to the radiofrequency radiation exposure requirements specified in 47 CFR 1.1307(b), 2.1091, and 2.1093, as appropriate. Applications for equipment authorization of devices operating under this section must contain a statement confirming compliance with these requirements for both fundamental emissions and unwanted emissions. Technical information showing the basis for this statement must be submitted to the Commission upon request.

(h) Any transmitter that has received the necessary FCC equipment authorization under the rules of this chapter may be mounted in a group installation for simultaneous operation with one or more other transmitter(s) that have received the necessary FCC equipment authorization, without any additional equipment authorization. However, no transmitter operating under the provisions of this section may be equipped with external phase-locking inputs that permit beam-forming arrays to be realized.

PART 97—AMATEUR RADIO SERVICE

11. The authority citation for part 97 continues to read as follows:

Authority: 48 Stat. 1066, 1082, as amended; 47 U.S.C. 154, 303. Interpret or apply 48 Stat. 1064-1068, 1081-1105, as amended; 47 U.S.C. 151-155, 301-609, unless otherwise noted.

12. Section 97.303 is amended by adding paragraph (r)(3) to read as follows:

§ 97.303 Frequency sharing requirements.

* * * * *

(r) * * *

* * * * *

(3) No amateur or amateur-satellite station transmitting in the 75.5-76 GHz segment shall cause interference to, nor is protected from, interference due to the operation of stations in the fixed service. After January 1, 2006, the 75.5-76 GHz segment is no longer allocated to the amateur service or to the amateur-satellite service.

* * * * *

PART 101—FIXED MICROWAVE SERVICES

13. The authority citation for part 101 continues to read as follows:

Authority: 47 U.S.C. 154 and 303.

14. Section 101.63 is amended by revising paragraphs (a) and (b) to read as follows:

§ 101.63 Period of construction; certification of completion of construction.

(a) Each Station, except in Multichannel Video Distribution and Data Service, Local Multipoint Distribution Services, 24 GHz Service, and the 38.6-40.0 GHz band, authorized under this part must be in operation within 18 months from the initial date of grant.

(b) For the 70 GHz, 80 GHz, and 90 GHz bands, the 12-month construction period will commence on the date of each registration of each individual link; adding links will not change the overall renewal period of the license.

* * * * *

15. Section 101.101 is amended by adding three entries to the table in numerical order to read as follows:

§ 101.101 Frequency availability.

| Radio service: Common carrier (Part 101) | Radio service: Private radio (Part 101) | Radio service: Broadcast auxiliary (Part 74) | Radio service: Other Parts 15, 21, 22, 24, 25, 74, 78 & 100) | Radio service: Notes
* * * * * * *
71,000-76,000 | CC | OFS |  | 25 | F/M/TF
81,000-86,000 | CC | OFS |  | 25 | F/M/TF
92,000-95,000 | CC | OFS |  | 15 | F/M/TF

* * * * *

16. Section 101.107(a) is amended by adding three entries to the table in numerical order and adding note 9 to read as follows:

§ 101.107 Frequency tolerance.

(a) * * *

Frequency (MHz) | Frequency tolerance (percent): All fixed base stations | Frequency tolerance (percent): Mobile stations over 3 watts | Frequency tolerance (percent): Mobile stations 3 watts or less
* * * * * * *
71,000 to 76,000 ⁹ |  |  |
81,000 to 86,000 ⁹ |  |  |
92,000 to 95,000 ⁹ |  |  |
⁹ Equipment authorized to be operated in the 38,600-40,000 MHz, 71,000-76,000 MHz, 81,000-86,000 MHz, 92,000-94,000 MHz and 94,100-95,000 MHz bands are exempt from the frequency tolerance requirement noted in the table of paragraph (a) of this section.

* * * * *

17. Section 101.109(c) is amended by removing the last entry in the table “Above 40,000” and adding three entries to the table in numerical order and revising note 3 to read as follows:

§ 101.109 Bandwidth

* * * * *

(c) * * *

* * * * *

Frequency band (MHz) | Maximum authorized bandwidth
* * * * *
71,000 to 76,000 | (³)
81,000 to 86,000 | (³)
92,000 to 95,000 | (³)
* * * * *
³ To be specified in authorization. For the bands of: 71 to 76 GHz, 81 to 86 GHz, and 92 to 95 GHz, maximum bandwidth is licensed in segments of 1.25 GHz for the 71-76 and 81-86 GHz bands, one segment of 2 GHz from 92-94 GHz, and one 0.9 GHz segment from 94.1 to 95 GHz, up to a total of 12.9 GHz, or the total of the loaded band if smaller than the assigned bandwidth.

* * * * *

18. Section 101.111 is amended by adding paragraph (a)(2)(v) to read as follows:

§ 101.111 Emission limitations.

(a) * * *

(2) * * *

(v) The emission mask for the 71-76 GHz, 81-86 GHz, 92-94 GHz, and 94.1-95 GHz bands used in the equation in paragraph (a)(2)(ii) of this section applies only to the edge of each channel, but not to sub-channels established by licensees. The value of P in the equation is for the percentage removed from the carrier frequency and assumes that the carrier frequency is the center of the actual bandwidth used. The value of B will always be 500 MHz. In the case where a narrower sub-channel is used within the assigned bandwidth, such sub-carrier will be located sufficiently far from the channel edges to satisfy the emission levels of the mask. The mean output power used in the calculation is the sum of the output power of a fully populated channel.

* * * * *

19. Section 101.113(a) is amended by adding three entries to the table in numerical order to read as follows:

§ 101.113 Transmitter power limitations.

(a) * * *

Frequency band (MHz) | Maximum allowable EIRP 1, 2: Fixed 1, 2 (dBW) | Maximum allowable EIRP 1, 2: Mobile (dBW)
* * * * *
71,000-76,000 | +55 | +55
81,000-86,000 | +55 | +55
92,000-95,000 | +55 | +55

* * * * *

20. Section 101.115 is amended by adding three entries to the table, in numerical order, following paragraph (b)(2) to read as follows:

§ 101.115 Directional antennas.

(b) * * *

(2) * * *

Antenna Standards
Frequency (MHz) | Category | Maximum beam width to 3 dB points ¹ (included angle in degrees) | Minimum antenna gain (dBi) | Minimum radiation suppression to angle in degrees from centerline of main beam in decibels: 5° to 10° | Minimum radiation suppression to angle in degrees from centerline of main beam in decibels: 10° to 15° | Minimum radiation suppression to angle in degrees from centerline of main beam in decibels: 15° to 20° | Minimum radiation suppression to angle in degrees from centerline of main beam in decibels: 20° to 30° | Minimum radiation suppression to angle in degrees from centerline of main beam in decibels: 30° to 100° | Minimum radiation suppression to angle in degrees from centerline of main beam in decibels: 100° to 140° | Minimum radiation suppression to angle in degrees from centerline of main beam in decibels: 140° to 180°
* * * * * * *
71,000 to 76,000 | N/A | 0.6 | 50.0 | 36 | 40 | 45 | 50 | 55 | 55 | 55
81,000 to 86,000 | N/A | 0.6 | 50.0 | 36 | 40 | 45 | 50 | 55 | 55 | 55
92,000 to 95,000 | N/A | 0.6 | 50.0 | 36 | 40 | 45 | 50 | 55 | 55 | 55

* * * * *

21. Section 101.147(a) is amended by removing the entry for “Bands Above 40,000 MHz” and adding four frequencies in numerical order and adding paragraph (z) to read as follows:

§ 101.147 Frequency assignments.

(a) * * *

71,000-76,000 MHz (5) (17)

81,000-86,000 MHz (5) (17)

92,000-94,000 MHz (17)

94,100-95,000 MHz (17)

* * * * *

(z) 71,000-76,000 MHz; 81,000-86,000 MHz; 92,000-94,000 MHz; 94,100-95,000 MHz. (1) Those applicants who are approved in accordance with FCC Form 601 will each be granted a single, non-exclusive nationwide license. Site-by-site registration is on a first-come, first-served basis. Registration will be in the Universal Licensing System until the Wireless Telecommunications Bureau announces by public notice, the implementation of a third-party database. See 47 CFR 101.1523. The sites are currently coordinated on the basis of 47 CFR 101.103, and may not operate until NTIA approval is received. Licensees may use these bands for any point-to-point non-broadcast service.

(2) Prior links shall be protected to a threshold-to-interference ratio (T/I) level of 1.0 dB of degradation to the static threshold of the protected receiver. Any new link shall not decrease a previous link's desired-to-undesired (D/U) signal ratio below a minimum of 36 dB, unless the earlier link's licensee agrees to accept a lower D/U.

(3) Entities must meet the loading requirements of 47 CFR 101.141. If it is determined that a licensee has not met the loading requirements, then the database will be modified to limit coordination rights to the spectrum that is loaded and the licensee will lose protection rights on spectrum that has not been loaded.

22. Add subpart Q to part 101 to read as follows:

Subpart Q—Service and Technical Rules for the 70/80/90 GHz Bands

Sec.
101.1501 Services areas.
101.1505 Segmentation plan.
101.1507 Permissible operations.
101.1511 Regulatory status and eligibility.
101.1513 License term and renewal expectancy.
101.1523 Sharing and coordination among non-government licensees and between non-government and government services.
101.1525 RF safety.
101.1527 Canadian and Mexican coordination.

§ 101.1501 Service areas.

The 70/80/90 GHz bands are licensed on the basis of non-exclusive nationwide licenses. There is no limit to the number of non-exclusive nationwide licenses that may be granted for these bands, and these licenses will serve as a prerequisite for registering individual links.

§ 101.1505 Segmentation plan.

(a) The 71-76 GHz and 81-86 GHz bands are divided into four unpaired 1.25 GHz segments each (8 total), without assignment of specific channels within the segment. An entity may request any portion of this spectrum, up to 10 GHz (1.25, 2.5, 3.75, 5, 6.25, 7.75 or 10 GHz). The segments may be aggregated without limit. Pairing is permitted, but only in a standardized manner (e.g., 71-72.25 GHz may be paired only with 81-82.25 GHz, and so on). Licensees are also permitted to register segments less than 1.25 GHz.

(b) The 92-95 GHz band is divided into three segments: 92.0-94.0 GHz and 94.1-95.0 GHz for non-government and government users, and 94.0-94.1 GHz for Federal Government use. Pairing is allowed and segments may be aggregated without limit. The bands in paragraph (a) of this section can be included for a possible 12.9 GHz maximum aggregation. Licensees are also permitted to register smaller segments than provided here.

§ 101.1507 Permissible operations.

Licensees may use the 70 GHz, 80 GHz and 90 GHz bands for any point-to-point, non-broadcast service. The segments may be unpaired or paired, but paring will be permitted only in a standardized manner (e.g., 71-72.25 GHz may be paired only with 81-82.25 GHz, and so on). The segments may be aggregated without limit.

§ 101.1511 Regulatory status and eligibility.

(a) Licensees are permitted to provide services on a non-common carrier and/or on a common carrier basis.

(b) Licensees are subject to the requirements set forth in § 101.7.

(c) Any entity, other than one precluded by § 101.7, is eligible for authorization to provide service under this part. Authorization will be granted upon proper application filing and link coordination in accordance with the Commission's rules.

§ 101.1513 License term and renewal expectancy.

Because the licensee will obtain a single license for all of its facilities, the license renewal period will be ten years from the registration of the first link. Adding links will not change the overall renewal period of the license.

§ 101.1523 Sharing and coordination among non-government licensees and between non-government and government services.

(a) Registration of each link in the 71-76 GHz, 81-86 GHz, and 92-95 GHz bands will be in the Universal Licensing System until the Wireless Telecommunications Bureau announces by public notice the implementation of a third-party database.

(b) Sharing and coordination among non-Federal Government links and between non-Federal Government and Federal Government links, shall occur according to the registration and coordination standards and procedures adopted in Report & Order, FCC 03-248, and as further detailed in subsequent implementation public notices issued consistent with that order. Protection of individual links against harmful interference from other links shall generally be granted to first-in-time registered links. Successful completion of coordination via the NTIA automated mechanism shall constitute successful non-Federal Government to Federal Government coordination for that individual link.

(c) In addition, the following types of non-Federal Government links require the filing with the Commission an FCC Form 601 for each link for the purpose of coordination and registration, in addition to registering each link in the third-party database:

(1) Facilities requiring the submission of an Environmental Assessment,

(2) Facilities requiring international coordination, and

(3) Operation in quiet zones.

(d) The Commission believes the licensee is in the best position to determine the nature of its operations and whether those operations impact these settings, and is required to submit to a database manager, as part of the registration package, documentation that an FCC Form 601 has been filed.

§ 101.1525 RF safety.

Licensees in the 70-80-90 GHz bands are subject to the exposure requirements found in §§ 1.1307(b), 2.1091 and 2.1093 of this chapter, and will use the parameters found therein.

§ 101.1527 Canadian and Mexican coordination.

(a) A licensee of bands 71.0-76.0, 81.0-86.0, 92-94 GHz and 94.1-95 GHz must comply with § 1.928(f) of this chapter, which pertains to coordination with Canada.

(b) A licensee of bands 71.0-76.0, 81.0-86.0, 92-94 GHz and 94.1-95 GHz must coordinate with Mexico in the following situations:

(1) For a station the antenna of which looks within the 200 deg. sector toward the Mexico-United States borders, that area in each country within 35 miles of the borders; and

(2) For a station the antenna of which looks within the 160 deg. sector away from the Canada-United States borders, that area in each country within 5 miles of the borders.

[FR Doc. 04-1246 Filed 1-22-04; 8:45 am]

BILLING CODE 6712-01-P